DEPARTMENT OF DEFENSE

Office of the Secretary

[No. DoD-2007-OS-0017]

Proposed Collection; Comment Request

AGENCY: DoD, National Defense University; National Security Education Program.

ACTION: Notice

In compliance with Section 3506(c)(2)(A) of the Paperwork Reduction Act of 1995, the National Defense University, announces the proposed revision of a previously approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 8, 2007.

ADDRESSES: You may submit comments, identified by docket number and title, by any of the following methods:

• Federal eRulemaking Portal: http://www.regulations.gov. Follow the instructions for submitting comments.

• Mail: Federal Docket Management System Office, 1160 Defense Pentagon, Washington DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the National Security Education Program, PO Box 20010, attn: Angel Park, Arlington, VA 22219, or call the National Security Education Program Office, at (703) 696-1991.

Title; Associated Form; and OMB Number: National Security Education Program (NSEP) Service Agreement for Scholarship and Fellowship Awards, DD Form 2752; and National Security Education Program (NSEP) Service Agreement Report (SAR), DD Form 2753; OMB Control Number 0704-0368.

Needs and Uses: The information collection requirement is necessary to obtain verification that applicable scholarship and fellowship recipients are fulfilling service obligation mandated by the National Security Education Program Act of 1991, Title VIII of Pub. L. 102-183, as amended.

Affected Public: Individuals or households; Federal government.

Annual Burden Hours: 275.

Number of Respondents: 250 (DD Form 2752) and 1400 (DD Form 2753).

Responses per Respondent: 1.

Average Burden per Responses: 10 minutes.

Frequency: Annual.

SUPPLEMENTARY INFORMATION:

Summary of Information Collection

Respondents are recipients of undergraduate scholarships and graduate fellowship assistance from the National Security Education Program (NSEP), established by the National Security Education Act of 1991. DD Form 2752 is the Service Agreement that award recipients sign in order to acknowledge their understanding of their service obligation, and agree to the obligation. DD Form 2753 is the Service Agreement Report Form on which the student provides an account of his or her work toward fulfilling the service obligation, or justifies a request for deferment. The forms supporting this information collection requirement represent the sole means of establishing a written agreement of the service obligation and progress reports toward fulfilling this obligation between students who receive NSEP undergraduate scholarships and graduate fellowship awards, the program office, and the Department.

Dated: March 2, 2007.
Patricia L. Toppings,
Alternate OSD Federal Register Liaison Officer, Department of Defense.

[FR Doc. 07-1104 Filed 3-8-07; 8:45 am]

BILLING CODE 5001-06-M